DEPARTMENT OF VETERANS AFFAIRS

Privacy Act of 1974; System of Records

AGENCY: Veterans Education Services, Veterans Benefits Administration, Department of Veterans Affairs (VA).

ACTION: Rescindment of a System of Records.

SUMMARY: Veterans Information Solution (VIS) is an intranet web-based application that provides a consolidated view of comprehensive eligibility utilization data from across the Veterans Benefit Administration (VBA) and Department of Defense (DoD). VIS provides access to Veteran/Service Member profile, service, rating and award information, Medals and Awards, benefits payments data and other miscellaneous information. VIS is an active application but does not store data and all the systems from which data is retrieved are covered by system of records notices (SORNs). Therefore, there is no need for VIS to have a SORN.

DATES: Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to Veterans Information Solutions (VIS)—VA (137VA005Q). Comments received will be available at regulations.gov for public viewing, inspection, or copies.

FOR FURTHER INFORMATION CONTACT: Any questions can be emailed to Alex Torres, System Owner, (703) 300-5511, Alexander.Torres@va.gov; or Rhonda Sims, System Steward, (512) 981-4695, Rhonda.Sims@va.gov, 812 Gilardi Dr., Petaluma, CA 94952.

SUPPLEMENTARY INFORMATION: Veterans Information Solution (VIS) is an intranet web-based application that provides a consolidated view of comprehensive eligibility utilization data from across the Veterans Benefit Administration (VBA) and Department of Defense (DoD). VIS provides access to Veteran/Service Member profile, service, rating and award information, Medals and Awards, benefits payments data and other miscellaneous information. VIS is an active application but does not store data and all the systems from which data is retrieved are covered by SORNs.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on January 20, 2022 for publication.

Dated: January 21, 2022.
Amy L. Rose,
Program Analyst, VA Privacy Service, Office of Information Security, Office of Information and Technology, Department of Veterans Affairs.

SYSTEM NAME AND NUMBER:

Veterans Information Solutions (VIS)—VA (137VA005Q)

HISTORY:

74 FR 37309 (July 28, 2009).

[FR Doc. 2022-01489 Filed 1-25-22; 8:45 am]

BILLING CODE P